DEPARTMENT OF TRANSPORTATION

Federal Aviation Administration

Agency Information Collection Activities Under OMB Review

AGENCY: Federal Aviation Administration (FAA), DOT.

ACTION: Notice.

SUMMARY: In compliance with the Paperwork Reduction Act of 1995 (44 U.S.C. 3501 et seq.), this notice announces that the Information Collection Requests (ICR) abstracted below have been forwarded to the Office of Management and Budget (OMB) for extension of the currently approved collections. The ICR describes the nature of the information collection and the expected burden. The Federal Register Notice with a 60-day comment period soliciting comments on the following collections of information was published on March 9, 2004, pages 10806-10807.

DATES: Comments must be submitted on or before June 14, 2004. A comment to OMB is most effective if OMB receives it within 30 days of publication.

FOR FURTHER INFORMATION CONTACT: Judy Street on (202) 267-9895.

SUPPLEMENTARY INFORMATION:

Federal Aviation Administration (FAA)

1. Title: Certification Procedures for Products and Parts, FAA Part 21.

Type of Request: Revision of a currently approved collection.

OMB Control Number: 2120-0018.

Forms(s): FAA Forms 8110-12, 8130-1, 8130-6, 8130-9, and 8130-12.

Affected Public: A total of 5,100 aircraft parts designers, manufacturers, and owners.

Abstract: 14 CFR part 21 prescribes certification procedures for aircraft, aircraft engines, propellers, products and parts. The information collected is used to determine compliance and applicant eligibility. The respondents are aircraft parts designers, manufacturers, and aircraft owners.

Estimated Annual Burden Hours: An estimated 44,101 hours annually.

2. Title: Certificate: Mechanics, Repairmen, Parachute Riggers, and Inspection Authorizations—FAR Part 65.

Type of Request: Revision of a currently approved collection.

OMB Control Number: 2120-0022.

Forms(s): FAA Forms 8610-1, 8610-2.

Affected Public: A total of 38,441 airmen.

Abstract: Title 49 U.S.C. 44702 and 44703 authorize the issuance of airman certificates. FAR Part 65 prescribes requirements for mechanics, repairmen, parachute riggers, and inspection authorizations. The information collected shows applicant eligibility for certification.

Estimated Annual Burden Hours: An estimated 34,432 hours annually.

3. Title: Terrain Awareness and Warning System (TAWS).

Type of Request: Extension of a currently approved collection.

OMB Control Number: 2120-0631.

Forms(s): NA.

Affected Public: None, as this collection is performed by a passive electronic safety device.

Abstract: This rule mandates TAWS for all turbine powered airplanes of 6 or more passenger seating. TAWS is a passive, electronic, safety device located in the airplane's avionics bay. TAWS alerts pilots when there is terrain in the airplane's flight path.

Estimated Annual Burden Hours: Since this is a passive collection activity, 1 hour is assigned for recordkeeping purposes only.

ADDRESSES: Send comments to the Office of Information and Regulatory Affairs, Office of Management and Budget, 725 17th Street, NW., Washington, DC 20503, Attention FAA Desk Officer.

Comments are invited on: Whether the proposed collection of information is necessary for the proper performance of the functions of the Department, including whether the information will have practical utility; the accuracy of the Department's estimates of the burden of the proposed information collection; and ways to enhance the quality, utility and clarity of the information to be collected; and ways to minimize the burden of the collection of information on respondents, including the use of automated collection techniques or other forms of information technology.

Issued in Washington, DC, on May 6, 2004.
Judith D. Street,
FAA Information Collection Clearance Officer, Standards and Information Division, APF-100.

[FR Doc. 04-11002 Filed 5-13-04; 8:45 am]

BILLING CODE 4910-13-M